DEPARTMENT OF TRANSPORTATION

Office of the Secretary

49 CFR Subtitle A

[Docket No. OST-2005-20434]

Negotiated Rulemaking Advisory Commiteee on Minimum Standards for Driver's Licenses and Personal Identification Cards

AGENCY: Office of the Secretary (OST), DOT.

ACTION: Suspension of advisory committee meeting.

SUMMARY: This document suspends the meeting of the Negotiated Rulemaking Advisory Committee on Minimum Standards for Driver's Licenses and Personal Identification Cards scheduled for May 10-13, 2005. The reason for the action is impending Congressional action, in the near future, concerning the “REAL ID Act.” This legislation would repeal section 7212 of the Intelligence Reform and Terrorism Prevention Act of 2004, which provides the authority for the negotiated rulemaking on this subject.

DATES: The May 10-13, 2005, meeting of the advisory committee is suspended immediately.

FOR FURTHER INFORMATION CONTACT: Robert C. Ashby, Deputy Assistant General Counsel for Regulation and Enforcement, Office of the General Counsel, at (202) 366-9310 (bob.ashby@dot.gov); Department of Transportation, 400 7th Street, SW., Washington, DC 20590, room 10424.

SUPPLEMENTARY INFORMATION: On December 17, 2004, the President signed into law the Intelligence Reform and Terrorism Prevention Act of 2004. (Pub. L. 108-458). Title VII of that Act is known as the 9/11 Commission Implementation Act of 2004 (the 9/11 Act). Subtitle B of the 9/11 Act addresses terrorist travel and effective screening. Among other things, Subtitle B, section 7212, mandated the issuance of minimum standards for State-issued driver's licenses and personal identification cards (Section 7212) that will be accepted by Federal agencies for official purposes.

Section 7212 directed the Department of Transportation to issue rules with the assistance of a negotiated rulemaking advisory committee, composed of representatives of the Departments of Transportation and Homeland Security, State agencies that issue driver's licenses, State elected officials, and other interested parties. The Department formed such an advisory committee, which met on April 19-21, 2005.

Congress has nearly completed work needed to pass the “REAL ID Act,” (a part of S. 1268), which repeals section 7212. As provided in the charter for the advisory committee, the committee—and the negotiated rulemaking process of which it is a key part—will terminate upon enactment of legislation repealing section 7212. Because we anticipate that the REAL ID Act will become law in the very near future, we are reluctant to ask committee members to commit the time and effort to the advisory committee next week, so the Department in this notice announces the suspension of the meeting of the committee that had been scheduled for May 10-13, 2005. If Congress enacts the REAL ID Act, the Department will issue another Federal Register notice, which will formally terminate the advisory committee and the regulatory negotiation process.

Issued this 4th day of May, 2005, in Washington, DC.
Jeffrey A. Rosen,
General Counsel.

[FR Doc. 05-9200 Filed 5-4-05; 2:05 pm]

BILLING CODE 4910-62-P